DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Survey of Persons Requesting “Hablemos en Confianza” and “Activity Book” Substance Abuse Prevention Materials—New—In the United States, Hispanic/Latinos present a disproportionately higher prevalence of alcohol, tobacco, cocaine, and marijuana use than other ethnic groups. In the Spring of 1995, the Secretary of the U.S. Department of Health and Human Services authorized the establishment of the Departmental Working Group on Hispanic Issues. Part of the Hispanic Agenda for Action calls for an increase in the Department's capacity to reach out and communicate with Hispanic/Latino populations using culturally and language appropriate techniques. In-depth literature review documented a lack of materials focusing on substance abuse prevention targeting Hispanic/Latino populations. Based on formative research, the “Hablemos en Confianza” kit (HEC) and the “Activity Book” were designed specifically to respond to this need for culturally and language appropriate materials.

The HEC kit consists of five booklets addressing various aspects of communication between parents/caregivers with children, three fotonovelas with open-ended stories of Hispanic/Latino families who are learning to discuss and resolve the issue of alcohol and drug use by their children, and a poster for youth 13-17 years old; the “Activity Book” has games and coloring sections for children 4-6 years of age and introduces topics of healthy behavior to prompt family members to talk to each other about physican and emotional issues. The dissemination of the materials was initiated in October, 1999 through the National Clearinghouse for Alcohol, and Drug Information (NCADI). The information resulting from the proposed survey will be employed by SAMHSA's Center for Substance Abuse Prevention (CSAP) to assess the quality of the materials regarding cultural adequacy and clarity, as well as the short term impact of the messages. This information will be instrumental in highlighting areas that should be addressed in future CSAP prevention/education materials targeting Hispanic/Latino audiences.

The adequacy of the prevention messages will be assessed by conducting a survey to collect data on five major areas: (1) Assess the degree to which the materials raise awareness in parents/caregivers about the potential communication problems with their children regarding substance use/abuse matters; (2) assess the degree to which the materials prompt parents/caregivers to generate intent or to pursue actions toward improving communication with their children; (3) assess the degree to which the materials are perceived as providing and/or increasing adults' capacity to communicate with youth; (4) assess the quality of the materials (clarity of the messages, cultural adequacy, and attractiveness of the materials); and (5) determine whether there are aspects to be modified and/or enhanced in the development of future materials focusing substance use/abuse targeted to Hispanic/Latino audiences. The study population is composed of parents or care givers (person responsible for the care of the children) who have requested the materials from NCADI and those who order small multiples (50 copies or fewer) that are small organizations that have a working knowledge of the materials they distribute.

The following table presents the response burden for this project.

No. of respondents | Responses/ respondent | Hours/response | Total burden
1,000 | 1 | .25 | 250

Written comments and recommendations concerning the proposed information collection should be sent within 30 days of this notice to: Stuart Shapiro, Human Resources and Housing Branch, Office of Management and Budget, New Executive Office Building, Room 10235, Washington, D.C. 20503.

Dated: November 7, 2000.
Richard Kopanda,
Executive Officer, SAMHSA.

[FR Doc. 00-29123 Filed 11-14-00; 8:45 am]

BILLING CODE 4162-20-U